DEPARTMENT OF COMMERCE

International Trade Administration

U.S. Travel and Tourism Advisory Board: Meeting of the U.S. Travel and Tourism Advisory Board

AGENCY: International Trade Administration, U.S. Department of Commerce.

ACTION: Notice of an open meeting.

SUMMARY: This notice sets forth the schedule and agenda for an open meeting of the U.S. Travel and Tourism Advisory Board (Board). The agenda may change to accommodate Board business. The final agenda will be posted on the Department of Commerce Web site for the Board at http://tinet.ita.doc.gov/TTAB/TTAB_Home.html.

DATES: May 23, 2011, 2 p.m.-4:30 p.m. Pacific Daylight Time (PDT).

ADDRESSES: The meeting will be held at the Moscone Center, 747 Howard Street, San Francisco, California, Room 250-262.

FOR FURTHER INFORMATION CONTACT: Jennifer Pilat, the U.S. Travel and Tourism Advisory Board, Room 4043, 1401 Constitution Avenue, NW., Washington, DC 20230, telephone: 202-482-4501, e-mail: jennifer.pilat@trade.gov.

SUPPLEMENTARY INFORMATION: Background: The Board was re-chartered in September 2009, to advise the Secretary of Commerce on matters relating to the U.S. travel and tourism industries.

Topics to be considered: During the meeting, the Board will hear updates from two Board subcommittees on Travel Facilitation and Research. Representatives from the Departments of Homeland Security, State and Transportation will also provide updates on their respective agencies' work relating to the U.S. travel and tourism industries, and updates on their respective agencies' work relating to the recommendations of the Travel Facilitation subcommittee presented at the last meeting and adopted by the Board. The Marketing, Outreach and Coordination and Advocacy subcommittees will present their respective recommendations to the Board.

Public Participation: The meeting will be open to the public and will be physically accessible to people with disabilities. Seating is limited and will be on a first come, first served basis. Because of building security and logistics, all attendees must pre-register no later than 5 p.m. Eastern Daylight Time (EDT) on Friday, May 13, 2011 with Jennifer Pilat, the U.S. Travel and Tourism Advisory Board, Room 4043, 1401 Constitution Avenue, NW., Washington, DC 20230, telephone 202-482-4501, jennifer.pilat@trade.gov. Please specify any requests for sign language interpretation, other auxiliary aids, or other reasonable accommodation no later than 5 p.m. EDT on May 16, 2011, to Jennifer Pilat at the contact information above. Last minute requests will be accepted, but may be impossible to fill.

No time will be available for oral comments from members of the public attending the meeting. Any member of the public may submit pertinent written comments concerning the Board's affairs at any time before or after the meeting. Comments may be submitted to Jennifer Pilat at the contact information indicated above. To be considered during the meeting, comments must be received no later than 5 p.m. EDT on May 13, 2011, to ensure transmission to the Board prior to the meeting. Comments received after that date will be distributed to the members but may not be considered at the meeting.

Copies of Board meeting minutes will be available within 90 days of the meeting.

Dated: April 13, 2011.
Jennifer Pilat,
Executive Secretary, U.S. Travel and Tourism Advisory Board.

[FR Doc. 2011-9355 Filed 4-15-11; 8:45 am]

BILLING CODE 3510-DR-P